DEPARTMENT OF ENERGY

Record of Decision for the Complex Transformation Supplemental Programmatic Environmental Impact Statement—Tritium Research and Development, Flight Test Operations, and Major Environmental Test Facilities

AGENCY: National Nuclear Security Administration, U.S. Department of Energy.

ACTION: Record of Decision.

SUMMARY: The National Nuclear Security Administration (NNSA), a separately organized agency within the U.S. Department of Energy (DOE), is issuing this Record of Decision (ROD) for the continued transformation of the nuclear weapons complex (Complex). This ROD is based on information and analyses contained in the Complex Transformation Supplemental Programmatic Environmental Impact Statement (SPEIS) (DOE/EIS-0236-S4) issued on October 24, 2008 (73 FR 63460); comments received on the SPEIS; and other factors, including costs, technical and security considerations, and the missions of NNSA. The SPEIS analyzes the potential environmental impacts of alternatives for transforming the nuclear weapons complex into a smaller, more efficient enterprise that can respond to changing national security challenges and ensure the long-term safety, security, and reliability of the nuclear weapons stockpile.

The alternatives analyzed in the SPEIS are divided into two categories: programmatic and project-specific. Programmatic alternatives involve the restructuring of facilities that use or store significant (i.e., Category I/II) quantities of special nuclear material (SNM).¹ These facilities produce plutonium components (commonly called pits ²), produce highly enriched uranium (HEU) components including secondaries,³ fabricate high explosives (HE) components and assemble and disassemble nuclear weapons. The decisions announced in this ROD relate to the project-specific alternatives. NNSA is issuing a separate ROD related to the programmatic alternatives.

¹ As defined in section 11 of the Atomic Energy Act of 1954, special nuclear material is: (1) plutonium, uranium enriched in the isotope 233 or in the isotope 235 and any other material which the U.S. Nuclear Regulatory Commission determines to be special nuclear material; or (2) any material artificially enriched by any of the foregoing. Special nuclear material is separated into Security Categories I, II, III, and IV based on the type, attractiveness level, and quantity of the material. Categories I and II require the highest level of security.

² A pit is the central core of a nuclear weapon, principally made of plutonium or enriched uranium.

³ A secondary is the component of a nuclear weapon that contains elements needed to initiate the fusion reaction in a thermonuclear explosion.

The project-specific alternatives analyzed in the SPEIS involve the possible restructuring of the following missions involving research and development (R&D) and testing: (1) Tritium R&D; (2) flight test operations; (3) major environmental test facilities (ETFs); (4) high explosives R&D; (5) hydrodynamic testing; and (6) weapons support functions at Sandia National Laboratories/California (SNL/CA). In this ROD, NNSA announces decisions regarding the first three missions.

NNSA has decided to implement the preferred alternatives for these three missions described in the SPEIS and summarized in this ROD. The major elements of the decisions announced in this ROD are:

(1) Consolidate tritium R&D at the Savannah River Site (SRS) in South Carolina;

(2) Conduct flight testing in a campaign mode at Tonopah Test Range (TTR) in Nevada under a reduced footprint permit; and

(3) Consolidate major environmental test facilities at Sandia National Laboratories/New Mexico (SNL/NM).

These decisions will best enable NNSA to meet its statutory missions while minimizing technical risks, risks to mission objectives, costs, and environmental impacts. These decisions continue the transformation begun following the end of the Cold War and the cessation of nuclear weapons testing, particularly decisions announced in the 1996 ROD for the Programmatic Environmental Impact Statement for Stockpile Stewardship and Management (SSM PEIS) (DOE/EIS-0236) (61 FR 68014; Dec. 26, 1996).

NNSA will continue its missions involving high explosives R&D, hydrodynamic testing, and weapons support functions at SNL/CA as described in the No Action Alternative and pursuant to previous NNSA decisions. In other words, NNSA is not making any new decisions regarding these missions at this time.

FOR FURTHER INFORMATION CONTACT: For further information on the Complex Transformation SPEIS or this ROD, or to receive copies of these, contact: Ms. Mary E. Martin, NNSA NEPA Compliance Officer, Office of Environmental Projects and Operations, NA-56, U.S. Department of Energy, 1000 Independence Avenue, SW., Washington, DC 20585, toll free 1-800-832-0885, ext. 69438. A request for a copy of the document may also be sent by facsimile to 1-703-931-9222, or by e-mail to complextransformation@nnsa.doe.gov. The Complex Transformation SPEIS, this ROD, and additional information regarding complex transformation are available on the Internet at http://www.ComplexTransformationSPEIS.com and http://www.nnsa.doe.gov.

For information on the DOE NEPA process, contact: Ms. Carol M. Borgstrom, Director, Office of NEPA Policy and Compliance (GC-20), U.S. Department of Energy, 1000 Independence Avenue, SW., Washington, DC 20585, 202-586-4600, or leave a message at 1-800-472-2756. Additional information regarding DOE NEPA activities and access to many DOE NEPA documents are available on the Internet through the DOE NEPA Web site at: http://www.gc.energy.gov/NEPA.

SUPPLEMENTARY INFORMATION:

Background

NNSA prepared this ROD pursuant to the regulations of the Council on Environmental Quality (CEQ) for implementing the National Environmental Policy Act (NEPA) (40 CFR Parts 1500-1508) and DOE's NEPA Implementing Procedures (10 CFR Part 1021). This ROD is based on information and analyses contained in the Complex Transformation Supplemental Programmatic Environmental Impact Statement (DOE/EIS-0236-S4) issued on October 24, 2008 (73 FR 63460); comments received on the SPEIS; other NEPA analyses as noted; and other factors, including cost, technical and security considerations, and the missions of NNSA. NNSA received approximately 100,000 comment documents on the Draft SPEIS from Federal agencies; state, local, and tribal governments; public and private organizations; and individuals. In addition, during the 20 public hearings that NNSA held, more than 600 speakers made oral comments.

National security policies require DOE, through NNSA, to maintain the United States' nuclear weapons stockpile, as well as the nation's core competencies in nuclear weapons. Since completion in 1996 of the SSM PEIS and associated ROD, DOE has pursued these objectives through the Stockpile Stewardship Program. This program emphasizes development and application of greatly improved scientific and technical capabilities to assess the safety, security, and reliability of existing nuclear warheads without nuclear testing. Throughout the 1990s, DOE also took steps to consolidate the Complex to its current configuration of three national laboratories (plus a flight test range operated by Sandia National Laboratories), four industrial plants, and a nuclear test site. This Complex enables NNSA to conduct research on weapons physics, materials science and engineering to design, develop, manufacture, maintain, and repair nuclear weapons; certify their safety, security, and reliability; conduct surveillance on weapons in the stockpile; store Category I/II SNM; and dismantle and disposition retired weapons. Sites within the Complex and their current missions are described in the following paragraphs.

Lawrence Livermore National Laboratory (LLNL), Livermore, California—LLNL conducts research, design, and development of nuclear weapons; designs and tests advanced technology concepts; provides safety, security, and reliability assessments and certification of stockpile weapons; conducts plutonium and tritium R&D, hydrotesting, high explosives (HE) R&D and environmental testing; and stores Category I/II quantities of SNM. LLNL also conducts destructive and nondestructive surveillance evaluations on pits to evaluate their reliability. NNSA is currently removing Category I/II SNM from the site and by 2012 LLNL will not maintain Category I/II SNM. NNSA is constructing the National Ignition Facility (NIF) at LLNL, which will allow a wide variety of high-energy-density investigations. NIF is scheduled to begin operations in 2009.

Los Alamos National Laboratory (LANL), Los Alamos, New Mexico—LANL conducts research, design, and development of nuclear weapons; designs and tests advanced technology concepts; provides safety, security, and reliability assessments and certification of stockpile weapons; maintains production capabilities for limited quantities of plutonium components (i.e., pits) for delivery to the stockpile; manufactures nuclear weapon detonators for the stockpile; conducts plutonium and tritium R&D, hydrotesting, HE R&D, and environmental testing; and stores Category I/II quantities of SNM. LANL also conducts destructive and nondestructive surveillance evaluations on pits to assess their reliability.

Nevada Test Site (NTS), 65 miles northwest of Las Vegas, Nevada—NTS maintains the capability to conduct underground nuclear testing; conducts high hazard experiments involving nuclear material and high explosives; provides the capability to process and dispose of a damaged nuclear weapon or improvised nuclear device; conducts non-nuclear experiments; conducts hydrodynamic testing and HE testing; conducts research and training on nuclear safeguards, criticality safety, and emergency response; and stores Category I/II quantities of SNM.

Pantex Plant (Pantex), Amarillo, Texas—Pantex dismantles retired weapons; fabricates HE components, and performs HE R&D; assembles HE, nuclear, and non-nuclear components into nuclear weapons; repairs and modifies weapons; performs nonintrusive pit modification; ⁴ and evaluates and performs surveillance of weapons. Pantex stores Category I/II quantities of SNM for the weapons program and stores other SNM in the form of surplus plutonium pits pending transfer to SRS for disposition.

⁴ Nonintrusive pit modification is modification to the external surfaces and features of a pit.

Sandia National Laboratories (SNL), Albuquerque, New Mexico; Livermore, California; and other locations—SNL conducts systems engineering of nuclear weapons; conducts research, design, and development of non-nuclear components; manufactures non-nuclear components including neutron generators for the stockpile; provides safety, security, and reliability assessments of stockpile weapons; and conducts HE R&D, tritium R&D, and environmental testing. The principal laboratory is located in Albuquerque, New Mexico (SNL/NM); a division of the laboratory (SNL/CA) is located in Livermore, California. SNL also operates TTR near Tonopah, Nevada, for flight testing of gravity weapons (including R&D and testing of nuclear weapons components and delivery systems). In 2008, SNL/NM completed removal of its Category I/II SNM. SNL/NM no longer stores or uses Category I/II SNM on a permanent basis, although it may use Category I/II SNM for limited activities in the future. No SNM is stored at TTR, although some test operations have involved SNM.

Savannah River Site (SRS), Aiken, South Carolina—SRS extracts tritium and performs loading, unloading, and surveillance of tritium reservoirs, and conducts tritium R&D. SRS does not store Category I/II quantities of SNM for NNSA's weapons activities, but does store Category I/II quantities for other DOE activities. SRS is currently receiving Category I/II surplus, non-pit plutonium from LLNL for storage pending its disposition.

The following two sites are part of the Complex but will not be affected by decisions announced in this ROD.

Kansas City Plant (KCP), Kansas City, Missouri—KCP manufactures and procures non-nuclear components for nuclear weapons and evaluates and tests these components. KCP has no SNM. The General Services Administration, as the lead agency and NNSA, as a cooperating agency, prepared an Environmental Assessment (DOE/EA-1592, Apr. 2008) regarding the potential environmental impacts of modernizing the facilities and infrastructure for the non-nuclear production activities conducted by the KCP as well as moving these activities to other locations. The agencies issued a Finding of No Significant Impact (73 FR 23244; Apr. 29, 2008) regarding an alternative in the Kansas City area. The SPEIS does not assess alternatives for the activities conducted at the KCP.

Y-12 National Security Complex (Y-12), Oak Ridge, Tennessee—Y-12 manufactures uranium components for nuclear weapons, cases, and other nuclear weapons components; evaluates and tests these components; stores Category I/II quantities of HEU; conducts dismantlement, storage, and disposition of HEU; and supplies HEU for use in naval reactors.

Alternatives Considered and Decisions

In order to develop the project-specific alternatives to restructure R&D and testing facilities, NNSA identified reasonable actions that would reduce or consolidate activities, eliminate excess facilities, or otherwise make a mission more efficient and cost effective. NNSA assessed the requirements of each mission and methods to meet those requirements while making the weapons complex more secure and efficient. NNSA also developed alternatives that would restructure the facilities where R&D and testing are conducted. In addition to the environmental analyses of the impacts of these alternatives, NNSA completed detailed business case studies of the alternatives, which are available to the public at http://www.ComplexTransformationSPEIS.com. NNSA will continue activities in accordance with the No Action Alternative for three of the six project-specific missions: High explosives R&D, hydrodynamic testing, and weapons support functions at SNL/CA. For example, there is a continued need to conduct experiments involving weapons quantities of high explosives combined with plutonium. These experiments will continue in existing facilities at the NTS. For the three other project-specific missions—Tritium R&D, Flight Test Operations, and Major Environmental Test Facilities—NNSA has decided to make changes in them. NNSA's decisions and its bases for these decisions are described in the following paragraphs.

NNSA prepared a classified appendix to the SPEIS that evaluates the potential impacts of intentional destructive acts. Substantive details of terrorist attack scenarios, security countermeasures, and potential impacts are not released to the public because disclosure of this information could be used to plan attacks. Although the results of the analyses were not disclosed in the unclassified SPEIS, the following general conclusion can be disclosed: the potential consequences of intentional destructive acts are highly dependent upon distance to the site boundary and size of the surrounding population—the closer and higher the surrounding population, the greater the potential consequences. In addition, it is generally easier and more cost-effective to protect new facilities, as modern security features can be incorporated into their design. The project-specific activities that are the subject of this ROD are not likely targets for intentional destructive acts, and therefore the decisions NNSA is making regarding these activities would not have significant potential impacts in this regard.

A. Tritium R&D

Alternatives Considered

In addition to analyzing the impacts associated with the No Action Alternative that would continue Tritium R&D activities at LLNL, LANL, SRS, and SNL/NM,⁵ three other alternatives were evaluated: (1) Consolidate at SRS by moving gas transfer system R&D from LLNL ⁶ and LANL to SRS; (2) consolidate at LANL by moving gas transfer system R&D from LLNL to LANL; and (3) reduce activities in-place, which would reduce tritium operations at LLNL, LANL and SRS.

⁵ Tritium Operations at SNL/NM are primarily associated with the Neutron Generator Production Facility, which would be unaffected under all alternatives.

⁶ This consolidation does not include R&D for NIF targets and filling these targets. Those operations would remain at LLNL under all alternatives.

Alternatives Considered But Eliminated from Detailed Study

NNSA considered alternatives for tritium R&D other than those described above, but concluded that these alternatives were not reasonable and eliminated them from detailed analysis. As explained in the SPEIS, the following alternatives were considered but eliminated from detailed study: (1) Increasing or decreasing the tritium missions at SNL/NM; (2) consolidating tritium R&D at LLNL; and (3) removing the tritium target loading for NIF from LLNL.

Preferred Alternative

The Final SPEIS identified the preferred alternative for tritium as consolidating R&D at SRS. SRS would remain the site for tritium supply management and provide R&D support to production operations and gas transfer system development. Tritium R&D to support gas transfer system development currently conducted at LLNL and LANL would be consolidated at SRS into the following existing facilities: (1) H-Area New Manufacturing Building; (2) H-Area Old Manufacturing Building; and (3) Building 773-A. No new construction would be necessary to consolidate these missions, although minor upgrades to existing laboratories may be required. NNSA would move bulk quantities of tritium from LANL to SRS by 2009, and remove tritium materials greater than 30 grams from the Weapons Engineering Tritium Facility (WETF) at LANL by 2014. NNSA would then limit the amount of tritium in the WETF to 30 or fewer grams at any one time. This alternative would not affect neutron generator target loading at SNL/NM or R&D for NIF targets, or filling these targets, at LLNL.

Environmental Impacts of Alternatives

The environmental impacts of the alternatives are presented in Section 5.14 of the SPEIS. Under the No Action Alternative there would be no changes to impacts currently experienced. The environmental impacts of consolidating tritium R&D at SRS would be minor: Tritium emissions at SRS would increase by 2.4 percent over current emissions and impacts would remain below regulatory limits; tritium emissions at LANL would decrease by 42 percent compared to current emissions; about 25 jobs would be restructured at LANL and about 25 new jobs would be created at SRS; doses to workers and the public at SRS would remain small and within regulatory limits; and wastes would be managed in existing facilities. Transferring the LLNL's tritium R&D (not NIF tritium work) to SRS or LANL could be accommodated in existing SRS or LANL facilities without any significant changes. Phasing out tritium R&D operations at LLNL would have no significant effects.

Environmentally Preferable Alternative

NEPA's Section 101 (42 U.S.C. 4331) establishes a policy that Federal agencies have a continuing responsibility to improve and coordinate their plans, functions, programs and resources so that, among other goals, the nation may fulfill its responsibilities as a trustee of the environment for succeeding generations. The Council on Environmental Quality, in its “Forty Most Asked Questions Concerning CEQ's NEPA Regulations” (46 FR 18026; Mar. 23, 1981), defines the “environmentally preferable alternative” as the alternative “that will promote the national environmental policy expressed in NEPA's Section 101.”

The analyses in the SPEIS of the environmental impacts associated with the tritium R&D alternatives indicated that the preferred alternative—to consolidate tritium R&D at SRS—is environmentally preferable. This alternative would result in minor increases in tritium emissions at SRS and corresponding reductions in emissions at LANL. At SRS, however, the tritium activities would be farther from the site boundary than at LANL, resulting in a smaller radiation dose to the maximally exposed individual (MEI). The reduction in dose to the population around LANL would be about equal to the increase in population dose at SRS. For accidents under the preferred alternative, there would be a lower potential dose to the maximally exposed individual at SRS than at LANL (again, because of the greater distance to the MEI at SRS), but, because of conservative assumptions about distribution of tritium releases among a larger total population, there would be a potentially larger population dose (see Section 5.14.1, Volume II of the SPEIS).

Decision on Tritium Research and Development Facilities

NNSA has decided to implement the preferred alternative to transfer tritium R&D in support of gas transfer system development from LLNL and LANL to SRS. SRS will continue tritium supply management and R&D support for production and gas transfer system filling and handling operations. Neutron generator target loading at SNL/NM and production of NIF targets at LLNL, which involve small quantities of tritium, will continue at those sites. NNSA will remove tritium materials greater than 30 grams from the WETF at LANL by 2014. NNSA would then limit the amount of tritium in this facility to 30 or fewer grams at any one time.

Basis for Decision on Tritium

NNSA decided to consolidate tritium R&D in support of gas transfer system development at SRS and remove tritium materials greater than 30 grams from the WETF at LANL by 2014 because this consolidation is environmentally preferable and furthers NNSA's objective of a smaller, more efficient enterprise that can respond to changing national security requirements. Transferring tritium R&D from LLNL and LANL to SRS allows consolidation of all handling operations involving significant quantities of tritium at one site. SRS currently has tritium processing, storage, reservoir loading/unloading, and tritium production R&D missions. SRS also has available facility space to accommodate consolidation of R&D for gas transfer system development, which will allow NNSA to pursue elimination of duplicate capabilities at other sites. Benefits will also result from more integrated operations and attention by SRS personnel to this primary weapons program mission, which will enable NNSA to improve its use of personnel and facilities and to better meet requirements for tritium R&D in the future. This consolidation is possible because of reductions in the stockpile. Much of the tritium facility infrastructure at SRS was built for the much larger stockpile, and it can now be modified and used for capabilities that are currently located at other sites. Eliminating redundant tritium capabilities also enhances a more interdependent enterprise in which personnel from the nuclear weapons complex sites must work more effectively together while sharing facility capabilities at a single site.

NNSA has concluded that the benefits of reduced environmental impacts and of a smaller, more interdependent enterprise outweigh the cost and technical risks of consolidating tritium R&D in support of gas transfer system development at SRS. Although the business case study for tritium R&D (Tritium R&D Business Case Report, Oct. 17, 2008) estimated that the cost for consolidating these activities at SRS will be greater than the cost of other alternatives, NNSA believes it can minimize the costs and risks of consolidation through effective transition planning.

There would be increased programmatic risk in making this change if LANL's WETF operations were discontinued prior to establishing the necessary capabilities at SRS. However, the transfer of tritium R&D from LANL to SRS is currently estimated to take up to 5 years and, during this time, NNSA will maintain the WETF in a functional status for experimental purposes to address any unanticipated stockpile issues and to support Life Extension Programs for weapons.⁷ NNSA's intention is then to close WETF after its functional status is no longer needed to support transfer of tritium R&D to SRS.

⁷ The Life Extension Program is an NNSA program that ensures the Nation's aging nuclear weapons are capable of safely and reliably meeting national defense requirements without producing new warheads or conducting nuclear tests. The purpose of this program is to refurbish existing nuclear weapons to extend their life and provide structural enhancements.

B. Flight Test Operations for Gravity Weapons

Alternatives Considered

In addition to analyzing the No Action Alternative, NNSA evaluated four alternatives for conducting flight test operations: (1) High-tech mobile upgrade; (2) operate at TTR in a campaign mode; (3) transfer flight test operations to White Sands Missile Range (WSMR) in New Mexico; and (4) transfer flight test operations to the NTS. The Campaign Mode Alternative has three options: campaign from the NTS, campaign from TTR under the existing land use permit with the U.S. Air Force, and campaign from TTR under a new reduced footprint permit (see Section 3.10.3 of the Final SPEIS for more information).

Under the No Action Alternative, High-Tech Mobile Upgrade Alternative, and Campaign Mode Alternative (all three options), NNSA would continue to conduct flight testing at TTR. There are minor differences in most aspects of these alternatives; however, the major difference would be staffing levels at TTR and the amount of land under NNSA's control.

NNSA also considered two alternatives that would discontinue flight testing at TTR and move the operations to either WSMR or NTS. Both of these alternatives would require construction of a concrete target 500 feet in diameter and 12 inches thick. Under both of these alternatives, NNSA and contractor personnel at TTR would either be transferred or laid off.

NNSA has conducted flight tests at test ranges other than TTR when specific test requirements could not be met at TTR. Under any of the alternatives considered in the SPEIS, NNSA might conduct occasional flight tests at different test ranges consistent with the environmental reviews for those sites.

Alternatives Considered But Eliminated From Detailed Study

NNSA considered flight test ranges operated by the Department of Defense, including Eglin Air Force Base in Florida, the China Lake testing and training range in California, and the Utah Test and Training Range. Each of these sites was determined to be unsuitable, primarily because the soils, underlying geologic formations, or both would make the recovery of deeply buried penetrators infeasible.

Preferred Alternative

The Final SPEIS identified the preferred alternative for flight test operations for gravity weapons as the Campaign Mode Operation of Tonopah Test Range (Option 3—Campaign under Reduced Footprint Permit). Under this alternative, NNSA would reduce the footprint of its activities at TTR, upgrade equipment with mobile capability, and operate in campaign mode. NNSA expects it would not use Category I/II SNM in future flight tests.

Environmental Impacts of Alternatives

The environmental impacts of the alternatives are presented in Section 5.15 of the SPEIS. Under the No Action Alternative there would be no changes to impacts currently experienced and no change to the permitted area at TTR (280 square miles). There would be no significant change in the workforce at TTR and no impacts to regional employment, income, or labor force.

The environmental impacts of the High-Tech Mobile Upgrade Alternative would not differ significantly from the No Action Alternative. This alternative would allow for a reduction in the operational costs of TTR through the introduction of newer, more efficient and technologically advanced equipment. There would be no construction required for this alternative. Annual operating requirements would be the same as for the No Action Alternative and there would be negligible effects to region of influence employment, income, and labor force.

All of the options under the Campaign Mode Alternative would retain flight testing operations at TTR, but would have socioeconomic impacts of varying levels. The reductions in employment would have secondary impacts on the service sector and commercial establishments in the region of influence. Because the flight testing operations would be the same under this alternative as both No Action and High-Tech Mobile Upgrade Alternatives, other environmental impacts would remain about the same. Option 1, Campaign from NTS, would result in the loss of approximately 92 full-time jobs at TTR, reducing the permanent workforce from 135 to 43. Option 2, Campaign under the Existing Land Use Permit, would result in the loss of approximately 57 jobs at TTR. Option 3, Campaign under a Reduced Footprint Permit, would result in the loss of about 70 jobs at TTR. However, for Options 2 and 3, the job loss would be partially offset by the addition of about 20 security guards as the Air Force assumes responsibility for continued contract site security, reducing the net job loss to approximately 37 and 50 jobs, respectively. In addition to socioeconomic impacts, Option 3 could reduce the area NNSA controls at TTR from 280 square miles to potentially less than 1 square mile. The reduction in footprint would be coordinated with the Air Force, and would not affect ongoing DOE and NNSA environmental restoration activities and responsibilities at TTR resulting from past testing by the Atomic Energy Commission, a predecessor of DOE. This reduction in footprint would not affect land use because the Air Force would continue to use TTR as a test and training range.

Transferring NNSA's flight testing operations from TTR to either WSMR or NTS would result in adverse socioeconomic impacts to the TTR region of influence, particularly the city of Tonopah. About 135 jobs would be lost at TTR and indirect effects on employment would include an additional loss of approximately 108 jobs. The annual impact to the income of the region of influence from both of these employment losses would be approximately $15.9 million ($10.2 million direct and $5.7 million indirect). The adverse socioeconomic impacts would extend to the housing market, schools, and community services.

Environmentally Preferable Alternative

The analyses in the SPEIS of the environmental impacts of the flight testing alternatives revealed that the No Action Alternative is environmentally preferable. This alternative would result in no increase in impacts to resources over the existing condition and would not have the adverse socioeconomic impacts of either the Campaign Mode options or of transferring flight test operations to WSMR or NTS.

Decision on Flight Testing

NNSA has decided to implement a campaign mode of operation at TTR as described in Option 3, Campaign under a Reduced Footprint Permit. NNSA would reduce the footprint of TTR, upgrade equipment with mobile capability, and operate in campaign mode. NNSA expects it would not use Category I/II SNM in future flight tests. Prior to making a decision to use these categories of SNM in future tests, NNSA would evaluate existing NEPA documents to determine if additional analysis would be required.

Basis for Decision on Flight Testing

NNSA decided to implement the preferred alternative, Option 3 of Campaign Mode Operation, because it poses the lowest risk to the mission, which was NNSA's most important consideration in making this decision. As explained in the next paragraph, although the alternative of transferring the program to WSMR would potentially result in lower costs, the significant risks to the execution of this mission do not justify pursuing these possible savings.

The risks to the mission are a result of the high demand for WSMR. WSMR is a national range with many different customers with diverse testing needs, and significant schedule coordination is required each year to meet these needs. An NNSA flight test program at WSMR would be assigned to priority category 4, behind programs such as Global War on Terrorism, major and minor research and development, test and evaluation programs, foreign military sales activities, and those programs that have been designated as documented Force/Activity Designator-1 programs. As a lower priority mission, NNSA's flight test program would not receive scheduling priority, which would pose risks to NNSA's mission it cannot accept. For example, because of the limited availability of nuclear certified aircraft, NNSA must generally accommodate its testing to times when Air Force aircraft are available. The low priority that would be assigned to NNSA flight testing at WSMR could limit NNSA's ability to conduct testing when aircraft become available. A secondary risk at WSMR is the uncertainty regarding the geology of the northern portion of the range and the associated uncertainty concerning NNSA's ability to use vertical recovery tools and techniques.

With respect to costs, NNSA conducted a detailed business case study of the flight testing alternatives (Independent Business Case Analysis of Complex Transformation Flight Test Facilities Phase II, Sept. 2008). This study provides a life-cycle cost comparison of the alternatives and includes costs associated with construction, transition, maintenance, operations, security, decontamination and decommissioning, and other activities. Based on this study, NNSA determined that conducting flight testing at TTR in a campaign mode with a reduced footprint would be the least expensive of the alternatives considered except for discontinuing operations at TTR and moving to WSMR.

Although the cost advantage of moving the program to WSMR could be as much as several million dollars annually, this is a small percentage of the total surveillance program budget. It also appears that the savings to the taxpayer might be lost due to the Air Force having to pick up new costs (now paid by NNSA) in order to conduct its programs at TTR. Additionally, potential scheduling delays and conflicts could further reduce or negate these savings.

Implementation of the campaign mode of operation and reduction of NNSA's footprint at TTR will have approximately the same environmental impacts as the No Action Alternative for all resources other than socioeconomics. The loss of about 70 jobs at TTR will have an adverse impact on the economy of the city of Tonopah; however, the impact will be less severe than from discontinuing flight testing at TTR and moving it to WSMR. In addition, as the Air Force would assume overall responsibility for site security, NNSA estimates that the approximately 20 current contractor security guard jobs would be retained.

NNSA recognizes that further planning and NEPA analysis may be required to implement some aspects of this option. The scope of these analyses could include security, facility operations and maintenance, environmental restoration, impact mitigation activities, or other topics, as appropriate. This could result in additional facility closures and demolitions or transfer of specified facilities from the NNSA to another user, such as the Air Force.

C. Major Environmental Test Facilities

Alternatives Considered

In addition to the No Action Alternative, NNSA evaluated two other alternatives for major Environmental Test Facilities: (1) Downsize-in-Place and (2) Consolidation of ETF Capabilities at One Site (either NTS or SNL/NM).

Under the No Action Alternative, NNSA would continue to operate redundant and aging ETF facilities at LLNL, LANL, SNL/NM, SNL/CA, and NTS. Only normal maintenance to meet safety and security standards would take place.

Under the Downsize-in-Place Alternative, facilities that are redundant, in need of major repair to enable continued operations, or no longer used, would be closed. This alternative would enable the closure of two facilities at LANL, two at LLNL, four at SNL/NM, and one at SNL/CA.

Under the Consolidation of Major ETF Capabilities at One Site, there are two options. One option would consolidate major ETF capabilities at NTS. This option would close four facilities at LANL, three at LLNL, twenty-one at SNL/NM, and one at SNL/CA. It would also require construction of five new facilities at NTS (an Annular Core Research Reactor-like facility, an Engineering Test Bay, an Aerial Cable Test Facility, a Building 834 Complex, and a sled track) to replace several of the capabilities lost through these closures. The two environmental test facilities at NTS, the Device Assembly Facility (DAF) and the U1a Complex, would remain in operation. The Engineered Test Bay (Building 334) at LLNL and three of the facilities at SNL/NM (considered to be capabilities critical to the continuance of the ETF Program) would remain open until the replacement facilities at NTS were operational.

The second consolidation option would locate major ETF capabilities at SNL/NM. This alternative would close four facilities at LANL, three at LLNL, four at SNL/NM, and one at SNL/CA. Under this option, NNSA would continue operations at DAF and the U1a Complex and at some of the facilities at SNL/NM. For this option, the major ETF activities presently conducted in Building 334 at LLNL and at the Building 834 Complex at LLNL's Site 300 would be transferred to either NTS or Pantex, or new facilities like these buildings would be constructed at SNL/NM.

Alternatives Considered But Eliminated from Detailed Study

No other alternatives were considered for major ETFs.

Preferred Alternative

The Final SPEIS identified the preferred alternative for major environmental testing as consolidating major environmental testing at SNL/NM and, infrequently, conducting operations requiring Category I/II SNM in security campaign mode there. NNSA would close LANL's and LLNL's major environmental testing facilities by 2010 (except those in LLNL Building 334 and the Building 834 Complex). NNSA would move environmental testing of nuclear explosive packages and other functions currently performed in LLNL Buildings 334 and 834 to Pantex by 2012.

Environmental Impacts of Alternatives

The environmental impacts of the alternatives are presented in Section 5.17 of the SPEIS. Under the No Action Alternative there would be no significant changes to impacts currently experienced. There would be no change in the workforce conducting major ETF activities at LANL, LLNL, NTS, SNL/NM, or SNL/CA. Therefore, there would be no impacts to employment, income, or the labor force in the regions of influence.

The Downsize-in-Place Alternative would close two facilities at LANL, two at LLNL, four at SNL/NM, and one at SNL/CA, reducing the existing floor space (about 558,000 square feet) by approximately 10 percent. Closing buildings could result in a reduction in the use of electricity and other energy sources, and would eliminate any emissions from operations. Although closing these facilities would generate wastes, sufficient management capacity exists for these wastes, and no major impacts are expected. There would be fewer than 20 jobs lost at any site.

The alternative of consolidating major ETF capabilities at NTS would result in closing four facilities at LANL, three at LLNL, 21 at SNL/NM, and one at SNL/CA, reducing the existing floor space by nearly 95 percent (a reduction of approximately 537,000 square feet). Although closing these facilities would generate wastes, sufficient management capacity exists for these wastes, and no major impacts are expected. Approximately 30 jobs at LANL, six at LLNL (including SNL/CA), and 224 at SNL/NM would be lost. This option would also require construction of new facilities at NTS to replace some capabilities lost through closures at other sites. Although this would disturb approximately 25 acres of land, less than 1 percent of available land at NTS would be affected. In addition, closing major test facilities at other sites would reduce energy demands and emissions associated with operation of those facilities.

The alternative of consolidating major ETF capabilities at SNL/NM would result in closing four facilities at LANL, three at LLNL, four at SNL/NM, and one at SNL/CA, reducing the existing floor space by nearly 25 percent (a reduction of approximately 133,000 square feet). Although closing these facilities would generate wastes, sufficient management capacity exists for these wastes, and no major impacts are expected. Approximately 30 jobs at LANL, 6 at LLNL (including SNL/CA) and 16 at SNL/NM would be lost. This option would also require the construction of new facilities at SNL/NM to replace some capabilities lost through closures at other sites. Although this would disturb approximately 2.5 acres of land, less than 1 percent of available land at SNL/NM would be affected.

The major ETF functions currently performed in Building 334 at LLNL and the Building 834 Complex at LLNL's Site 300 would be moved to Pantex and located in an existing building or the proposed Weapons Surveillance Facility. This would require removal of equipment from Building 334 and from the Building 834 Complex and the installation at Pantex of a measurement tower, a sealed source storage pit, and a five-ton bridge crane. This installation would require modification to only one building at Pantex; no new construction would be required. These changes would result in the addition of two jobs at Pantex. Operations would not be expected to generate additional waste other than normal office refuse, and waste associated with occasional use of solvents and cleaning fluids, and would not use additional water other than the sanitary and personal usage of the two additional employees.

Environmentally Preferable Alternative

The analyses in the SPEIS of the environmental impacts associated with the alternatives revealed that the No Action Alternative is environmentally preferable. This alternative would result in no increase in impacts to resources and would not produce any adverse socioeconomic impacts at LANL, LLNL, NTS, SNL/NM, or SNL/CA.

Decisions on Major Environmental Test Facilities

NNSA has decided to implement the preferred alternative to consolidate major ETF capabilities at SNL/NM and conduct infrequent operations requiring Category I/II SNM in a security campaign mode. NNSA will close four facilities at LANL (K Site Environmental Test Facility, Weapons Component Test Facility, Pulse Intense X-Ray (PIXY) with Sled Track, and Thermo-Conditioning Facility), three at LLNL (Engineered Building 834 Complex, Dynamic Testing Facility (836 Complex), and Building 334), four at SNL/NM (Sandia Pulsed Reactor Facility,⁸ Low Dose Rate Gamma Irradiation Facility, Auxiliary Hot Cell Facility, and Centrifuge Complex), and one at SNL/CA (Environmental Test Complex). In addition, activities presently conducted in Building 334 at LLNL and at Building 834 Complex at LLNL's Site 300 will be transferred to Pantex and placed either in existing buildings or in the proposed Weapons Surveillance Facility. Any new construction would be subject to appropriate NEPA review.

⁸ The reactor itself has already been moved to NTS.

Basis for Decision on Major Environmental Test Facilities

NNSA's decision to consolidate major ETF capabilities at SNL/NM is the least costly alternative and poses no greater technical risk than other alternatives; cost and technical risk were the most important considerations in making this decision. Because the majority of the ETF capabilities currently exist at SNL/NM, consolidating these capabilities there will require the least construction and will have the lowest cost of the consolidation alternatives. Considering life-cycle costs through the year 2060, this alternative is also the least costly, although the business case study showed only minor cost differences among the alternatives. All alternatives analyzed were found to pose some technical risk; however, no significant differences were found among the alternatives. For the alternatives involving consolidation at SNL/NM or NTS, the major risk was the potential delay in constructing a new facility to house the Building 334 and Building 834 missions. For these missions, consolidation into an existing building at Pantex has the lowest cost, poses the smallest risk, and produces the least environmental impacts.

Considering potential environmental impacts, cost, technical risk and schedule, the alternative of consolidating major ETF capabilities at SNL/NM, and moving the activities conducted at Building 334 and Building 834 to Pantex, is the best alternative.

Mitigation Measures

As described in the SPEIS, NNSA conducts its missions in compliance with environmental laws, regulations, and policies within a framework of contractual requirements; many of these requirements mandate actions to control and mitigate potential adverse environmental effects. Examples include the site environment, safety, and health manuals, site security and threat protection plans, emergency plans, Integrated Safety Management Systems, pollution prevention and waste minimization programs, cultural resource and protected species programs, and energy and water conservation programs.

Comments Received on Final SPEIS Related to the Project-Specific Alternatives

During the 30-day period following the EPA's notice of availability for the Final SPEIS (73 FR 63460, Oct. 24, 2008), NNSA received written comments from the following groups: Alliance for Nuclear Accountability, Project on Government Oversight, National Radical Women, Physicians for Social Responsibility, Oak Ridge Environmental Peace Alliance, Tri-Valley CAREs, the Union of Concerned Scientists, Nuclear Watch New Mexico, the Arms and Security Initiative of the New America Foundation, Concerned Citizens for Nuclear Safety, Embudo Valley Environmental Group, Ecology Ministry, Loretto Community, Aqua es Vida Action Team, Citizens for Alternatives to Radioactive Dumping, and Tewa Women United. Written comments were also received from approximately 30 individuals. The majority of these comments, which focused primarily on policy and programmatic issues, are considered by NNSA in the ROD for the programmatic decisions. NNSA did receive comments related to two issues regarding the project-specific alternatives, though neither has bearing on any of the three missions that this ROD concerns. These project-specific comments and NNSA's responses follow.

1. Referring to the Preferred Alternative for Major Hydrodynamic Testing as described in the Final SPEIS (Section 3.17.2, Volume I), one commenter stated that containing hydrodynamic testing at LLNL in the Contained Firing Facility by the end of fiscal year (FY) 2008 implies that open-air detonation experiments would cease at LLNL's Site 300 by the end of FY 2008. The commenter points out that the Preferred Alternative also states that hydrodynamic testing at Site 300 would be consolidated to a smaller footprint by 2015. The commenter then states that since many of the hydrodynamic testing facilities at Site 300 are open-air firing tables, it is not clear whether open-air detonations would continue at LLNL Site 300 facilities until 2015, or potentially a later date. If NNSA plans to cease open-air detonation experiments at Site 300, either by the end of FY 2008 or in 2015, it should express this determination in unequivocal language. Another commenter stated that all open air tests must be contained and questioned the meaning of the following sentence in the Final SPEIS: “Open-air hydrotests at LANL's DARHT [Dual-Axis Radiographic Hydrodynamic Test facility], excluding SNM, would only occur if needed to meet national security requirements.” (See Section S.3.17.2, Summary.) The commenter specifically asked what the phrase “if needed” means and asked who would make this decision.

Response: As stated in this ROD, NNSA is not making any new decisions regarding hydrodynamic testing activities at this time. These activities will continue as described in the No Action Alternative and pursuant to previous decisions. If NNSA decides to make significant changes to hydrodynamic testing, it would issue a ROD to announce and explain the new decision.

2. In reference to the Preferred Alternative for HE R&D as described in the Final SPEIS (Section S.3.17.2 of the Summary), one commenter stated that a schedule that defines when LANL would arrive at contained HE R&D experimentation must be given. Just stating that LANL will “move towards” contained HE R&D experimentation is meaningless and will continue to impose environmental impacts on the public.

Response: As stated in this ROD, NNSA is not making any new decisions regarding HE R&D activities at this time. These activities will continue as described in the No Action Alternative and pursuant to previous decisions. If NNSA decides to make significant changes to HE R&D activities, it would issue a ROD to announce and explain the new decision.

Issued at Washington, DC, this 15th day of December 2008.
Thomas P. D'Agostino,
Administrator, National Nuclear Security Administration.

[FR Doc. E8-30194 Filed 12-18-08; 8:45 am]

BILLING CODE 6450-01-P